DEPARTMENT OF ENERGY

Federal Energy Regulatory Commission

[Project No. 10552-016]

Contractor's Power Group, Inc.; American Falls Reservoir District No. 2; Notice of Application for Transfer of License and Soliciting Comments, Motions To Intervene, and Protests

On July 13, 2018, Contractor's Power Group, Inc. (transferor) and American Falls Reservoir District No. 2 (transferee) filed an application for the transfer of license of the Mile 28 Hydroelectric Project No. 10552. The project is located on the Bureau of Reclamation's Milner-Gooding Canal, in Jerome County, Idaho.

The applicants seek Commission approval to transfer the license for the Mile 28 Hydroelectric Project from the transferor to the transferee.

Applicants Contact: For transferor: Mr. Breck Glassinger, Contractor's Power Group, Inc., 124 Bridon Way, Jerome, ID 83338, Phone: 208-324-5563.

For transferee: Mr. Ellis Gooch, President, American Falls Reservoir District No. 2, 409 North Apple Street, Shoshone, ID 83352, Phone: 208-886-2331 and Mr. Ted S. Sorenson, 1032 Grandview Drive, Ivins, UT 84738.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10552-016.

Dated: August 16, 2018.
Nathaniel J. Davis, Sr.,
Deputy Secretary.

[FR Doc. 2018-18101 Filed 8-21-18; 8:45 am]

BILLING CODE 6717-01-P